DEPARTMENT OF EDUCATION

Office of Special Education and Rehabilitative Services; Overview Information; Technology and Media Services for Individuals With Disabilities—Family Center on Technology and Disability; Notice Inviting Applications for New Awards for Fiscal Year (FY) 2008.

Catalog of Federal Domestic Assistance (CFDA) Number: 84.327F.

DATES: Applications Available: June 2, 2008.

Deadline for Transmittal of Applications: July 2, 2008.

Deadline for Intergovernmental Review: September 2, 2008.

Full Text of Announcement

I. Funding Opportunity Description

Purpose of Program: The purposes of the Technology and Media Services for Individuals with Disabilities program are to: (1) Improve results for children with disabilities by promoting the development, demonstration, and use of technology, (2) support educational media services activities designed to be of educational value in the classroom setting to children with disabilities, and (3) provide support for captioning and video description of educational materials that are appropriate for use in the classroom setting.

Priority: In accordance with 34 CFR 75.105(b)(2)(v), this priority is from allowable activities specified, or otherwise authorized, in the statute (see sections 674 and 681(d) of the Individuals with Disabilities Education Act (IDEA)).

Absolute Priority: For FY 2008 and any subsequent year in which we make awards based on the list of unfunded applicants from this competition, this priority is an absolute priority. Under 34 CFR 75.105(c)(3), we consider only applications that meet this priority.

This priority is:

Family Center on Technology and Disability (84.327F).

Background: Section 602 of IDEA defines an assistive technology device as any item, piece of equipment, or product system, whether acquired, commercially off the shelf, modified or customized, that is used to increase, maintain, or improve the functional capabilities of a child with a disability, and an assistive technology service as any service that directly assists a child with a disability in the selection, acquisition, or use of an assistive technology device. For purposes of this priority, assistive technology refers to any assistive technology device or assistive technology service. Assistive technology can be anything from a simple magnifying glass to help a child with low vision to a complex computer system that uses the movement of a child's eyes to turn on a light or to call for help. Assistive technology also includes, for example, software to animate or make a computer cursor larger for children with visual disabilities and speech recognition software to convert speech to digital text for children unable to write or use a keyboard.

Instructional technology combines computer technology and learning theory to improve educational outcomes for all children, including children with disabilities. Examples of instructional technology include software that helps children with dyslexia learn to read and software that helps children with autism learn to interpret facial expressions and improve their social interactions with others.

Having informed parents actively involved in their children's education contributes to positive educational outcomes (Caspe & Lopez, 2006). Studies suggest that parents of children with disabilities want to be involved and engaged in technology planning and that their involvement in technology planning can be instrumental in reaching desired outcomes for their children (Lode, 1992; Long, Huang, Woodbridge, Woolverton, & Minkel, 2003; Parette & McMahan, 2002). In contrast, the absence of family involvement in planning and implementing technology-supported interventions for children with disabilities may lead to disuse or misuse of promising technologies for those children (Alper & Raharinirina, 2006; Zabala & Carl, 2005). In order for parents to participate effectively in planning and implementing technology-supported interventions, particularly during the development of their child's individualized family service plan (IFSP) or individualized education program (IEP), they need current, accurate information about assistive and instructional technologies, as well as strategies to work with early intervention and school personnel to foster the effective implementation of assistive and instructional technology interventions (Edyburn, 2004).

Families frequently receive information on assistive and instructional technology interventions from a variety of sources, including from their State educational agency (SEA), local educational agency (LEA), and State lead agency for early intervention programs funded under Part C of IDEA. Families may also receive information directly from parent organizations, disability and advocacy groups, professional associations, and community groups. While these associations and groups provide general information about assistive and instructional technology interventions, they typically do not provide the most specific or evidence-based information currently available. Additionally, the technical information about emerging technologies that is provided is often designed for practitioners or service providers rather than for families of children with disabilities. For these reasons, the Office of Special Education Programs (OSEP) funded a Family Center on Technology and Disability (FCTD) in 2003 to work primarily with organizations and programs that work with families of children and youth with disabilities to improve the availability and quality of technology-related information and support for families. (For further information on the work of the FCTD, see http://www.fctd.info.) The FCTD formed a “Knowledge Network” of more than 3,000 organizations and assisted them in disseminating the most current information on developments and resources in the field of assistive and instructional technology interventions to families of children with disabilities.

Given the speed with which new technology emerges and changes, families of children with disabilities continue to need support to access the most current evidence-based information on assistive and instructional technology interventions. OSEP, therefore, seeks to support a new Family Center on Technology and Disability in order to build on and enhance the work of the current FCTD and to meet the continuing needs of families so that they can advocate and be actively involved in supporting their children's use of assistive and instructional technology.

Priority: The purpose of this priority is to fund a cooperative agreement to support the establishment and operation of a Family Center on Technology and Disability (Center). This Center must develop and disseminate information that will enhance the capacity of families to work collaboratively with professionals from SEAs, LEAs, and lead agencies for early intervention programs funded under Part C of IDEA, including teachers, administrators, related services providers, and early intervention personnel, to implement innovative and effective assistive and instructional technology interventions for their children with disabilities.

To be considered for funding under this absolute priority, applicants must meet the application requirements contained in this priority. All projects funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: For more information on logic models, the following Web site lists multiple on-line resources: http://www.cdc.gov/eval/resources.htm.

(b) A plan to implement the activities described in the Project Activities section of this priority;

(c) A plan, linked to the proposed project's logic model for a formative evaluation of the proposed project's activities. The plan must describe how the formative evaluation will use clear performance objectives to ensure continuous improvement in the operation of the proposed project, including objective measures of progress in implementing the project and ensuring the quality of products and services;

(d) A line item in the proposed budget for a summative evaluation to be conducted by an independent third-party;

(e) A line item in the proposed budget for attendance at each of the following:

(1) A one and one half day kick-off meeting to be held in Washington, DC within four weeks after receipt of the award, and an annual planning meeting held in Washington, DC with the OSEP Project Officer during each subsequent year of the project period.

(2) A three-day Project Directors' Conference in Washington, DC during each year of the project period.

(3) A two-day trip to Washington, DC during each year of the project period to attend Department briefings, Department-sponsored conferences, and other meetings, as requested by OSEP; and

(f) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

(a) On an ongoing basis, review current research, identify emerging trends and innovations, and synthesize the literature on the effective use of assistive and instructional technology interventions to improve results for children with disabilities ages birth through 26.

(b) Develop materials and services, in consultation with parent groups, to support the active and informed participation of families in the identification, acquisition, and use of innovative, effective, and evidence-based assistive and instructional technology, including interventions that address the functional and educational needs of children with disabilities.

(c) Collect information and materials on the availability, reliability, quality, and utility of assistive and instructional technology interventions, and make this information and materials available to SEAs, LEAs, and lead agencies for early intervention programs funded under Part C of IDEA, as well as to families and organizations serving families of children with disabilities.

(d) Create a searchable online resource database at the Web site required in (h) that allows public access to the materials collected under paragraph (c) of this section of the priority. Before including any third-party materials in this online database, the Center must obtain all permissions and licenses to use the third-party materials in this manner. The Center must maintain the database and ensure that it is up-to-date by continuously adding new material to and removing outdated material from the database. The Center must make the information and materials in the database available to download, free of charge, from the Center's Web site. To the maximum extent possible, the Center must avoid duplicating the functions and content of other online resources (e.g., http://www.assistivetech.net, http://www.abledata.com, http://www.infinitec.net) and instead establish a link on its Web site to these online resources.

(e) Establish and maintain ongoing partnerships with SEAs, LEAs, and State lead agencies for early intervention programs funded under Part C of IDEA in order to facilitate administrators, teachers, early intervention personnel, and related services providers' understanding of the potential benefits of assistive and instructional technology interventions so that, as appropriate, effective technology interventions are discussed, and, if appropriate, incorporated into children's IEPs/IFSPs.

(f) Maintain a network of organizations, including professional associations, advocacy groups, parent groups, nonprofit and for-profit companies that develop and improve technology, SEAs, LEAs, State lead agencies for early intervention programs funded under Part C of IDEA, other State and local agencies (including the State Assistive Technology Programs funded under the Assistive Technology Act of 1998), technical assistance and dissemination centers and other programs that work with families of children with disabilities to enhance their capacity to provide families with current information about innovative, effective, and evidence-based assistive and instructional technology interventions for children with disabilities (Network). The Center must—

(1) Ensure, to the extent possible, that the members of the current FCTD's existing network are included as members of the Network, and continue to recruit new members from relevant organizations;

(2) Maintain a searchable database of organizations that participate in the Network and agree to be included in the database;

(3) Create and disseminate a monthly newsletter, accessible in both electronic and hard-copy formats, to Network members. This newsletter must highlight innovative, effective, and evidence-based assistive and instructional technology interventions to support children's functional and educational needs;

(4) Establish an information exchange system that fosters communication and collaboration among Network members and enables them to better meet the technology information needs of families of children with disabilities; and

(5) Provide Network members with feedback from consumers that may be useful for product improvement and development.

(g) Develop and implement a strategy to respond to inquiries from families by directly responding to them or by referring them to appropriate members of the Network, which may include the State Assistive Technology Program, or appropriate out-of-State contacts. This strategy must increase the capacity of Network members to provide families with information about appropriate, innovative, effective, and evidence-based assistive and instructional technology interventions for children with disabilities so that parents can effectively advocate for including appropriate assistive and instructional technology interventions in their child's IFSP or IEP.

(h) Maintain a Web site that meets a government or industry recognized standard for accessibility and that links to the Web site operated by the Technical Assistance Coordination Center (TACC), which OSEP intends to fund in FY 2008. The Web site must contain the searchable database of organizations that participate in the required Network under paragraph (f) of this section and the searchable resource database required under paragraph (d) of this section, the Network newsletters, links to other relevant Web sites, topical online discussions, and other relevant resources on innovative, effective, and evidence-based assistive and instructional technology interventions for children with disabilities.

(i) Participate in meetings, conferences, and other events to improve the capacity of other projects and organizations to meet the technology information needs of families of children with disabilities. The Center's participation may include, but is not limited to, delivering presentations, exhibiting and demonstrating materials, facilitating discussions, and participating in work groups.

(j) Establish and maintain an advisory committee to review the proposed activities and outcomes of the Center and provide programmatic support and advice throughout the project period. The advisory committee must meet on an annual basis in Washington, DC and, at a minimum, consist of (1) an individual with a disability or a family member of an individual (under the age of 26) with a disability; (2) an individual with knowledge and expertise in innovative, effective, evidence-based assistive and instructional technology interventions for children with disabilities; (3) a representative from an SEA or LEA; (4) a representative from a State lead agency for early intervention programs funded under Part C of IDEA; and (5) a representative from a Parent Training and Information Center (PTI) or a Community Parent Resource Center (CPRC). Proposed members of the advisory committee must be submitted to OSEP for approval within eight weeks after receipt of the award.

(k) Communicate and collaborate, on an ongoing basis, with Department-funded projects, including the National and Regional Parent Technical Assistance Centers, PTIs, CPRCs, State Assistive Technology Programs, the National Assistive Technology Technical Assistance Partnership, and the National Pass It On Center, funded by the Rehabilitation Services Administration. This collaboration could include the sharing of information, the joint development of resource materials, and the planning and carrying out of meetings and events.

(l) Prior to developing any new resource materials, whether paper or electronic, submit to the OSEP Project Officer and the Proposed Product Advisory Board at OSEP's TACC for approval, a proposal describing the content and purpose of the product.

(m) Coordinate with the National Dissemination Center for Individuals with Disabilities, which OSEP intends to fund in FY 2008, to develop an efficient and high quality dissemination plan that reaches broad audiences. Strategies must be developed to support organizations in reaching underserved populations, including parents from rural communities, those who have limited access to Web-based resources, those with low income, and those with limited English proficiency.

(n) Maintain ongoing communication with the OSEP Project Officer through monthly phone conversations and e-mail communication.

Fourth and Fifth Years of the Project: In deciding whether to continue funding the Center for the fourth and fifth years, the Secretary will consider the requirements of 34 CFR 75.253(a), and in addition—

(a) The recommendation of a review team consisting of experts selected by the Secretary. The review will be conducted during a one-day intensive meeting to be held in Washington, DC during the last half of the Center's second year. The Center must budget for travel expenses associated with this one-day intensive review;

(b) The timeliness and effectiveness with which all requirements of the negotiated cooperative agreement have been or are being met by the Center; and

(c) The quality, relevance, and usefulness of the Center's activities and products and the degree to which the Center's activities and products are contributing to changed practice and improved child and family outcomes.

References

Alper, S., & Raharinirina, S. (2006). Assistive technology for individuals with disabilities: A review and synthesis of the literature. Journal of Special education Technology, 21(2), 47-64.

Caspe, M., & Lopez, M.E. (2006). Lessons from family-strengthening interventions: Learning from evidence-based practice. Cambridge, MA: Harvard Family Research Project; available at http://www.gse.harvard.edu/hfrp/projects/fine/resources/research/lessons.html.

Edyburn, D.L. (2004). Rethinking assistive technology. Special Education Technology Practice, 5(4), 16-23.

Lode, C. (1992). How assistive technology assists my daughter to compete in the mainstream of life. Exceptional Parent, 22(8), 34-41.

Long, T., Huang, L., Woodbridge, M., Woolverton, M., & Minkel, J. (2003). Integrating assistive technology into an outcome-driven model of service delivery. Infants and Young Children, 16, 272-283.

Parette, P., & McMahan, G.A. (2002). What should we expect of assistive technology? Being sensitive to family goals. Teaching Exceptional Children, 35, 56-61.

Zabala, J.S., & Carl, D.F. (2005). Quality indicators for assistive technology services in schools. In D.L. Edyburn, K. Higgins, & R. Boone (Eds.), The handbook of special education technology research and practice (pp. 179-207). Whitefish Bay, WI: Knowledge by Design, Inc.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1474 and 1481.

Applicable Regulations: The Education Department General Administrative Regulations in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Discretionary grants.

Estimated Available Funds: $600,000.

Maximum Award: We will reject any application that proposes a budget exceeding $600,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs; LEAs; public charter schools that are LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this program or competition as follows: CFDA Number 84.327F.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger, or no smaller than 10 pitch (characters per inch).

The page limit does not apply to Part I, the cover sheet; Part II, the budget section, including the narrative budget justification; Part IV, the assurances and certifications; or the two-page abstract, the resumes, the bibliography, the references, or the letters of support. The page limit, however, does apply to the application narrative in Part III.

We will reject your application if you exceed the page limit; or if you use other standards and exceed the equivalent of the page limit.

3. Submission Dates and Times:

Applications Available: June 2, 2008.

Deadline for Transmittal of Applications: July 2, 2008.

Applications for grants under this program may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 2, 2008.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The Family Center on Technology and Disability competition, CFDA Number 84.327F, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Family Center on Technology and Disability competition—CFDA Numbers 84.327F at http://www.Grants.gov. You must search for the downloadable application package for this competition by the CFDA number. Do not include the CFDA number's alpha suffix in your search (e.g., search for 84.327, not 84.327F).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You also can find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.327F), 400 Maryland Avenue, SW., Washington, DC 20202-4260; or

By mail through a commercial carrier: U.S. Department of Education, Application Control Center, Stop 4260, Attention: (CFDA Number 84.327F), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.327F), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Peer Review: In the past, the Department has had difficulty finding peer reviewers for certain competitions, because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary also may require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects are of high quality, are relevant to improving outcomes of children with disabilities, and contribute to improving outcomes for children with disabilities. We will collect data on these measures from the project funded under this competition.

The grantee also will be required to report information on its project's performance in annual reports to the Department (34 CFR 75.590).

VII. Agency Contact

FOR FURTHER INFORMATION CONTACT: Jo Ann McCann, U.S. Department of Education, 400 Maryland Avenue, SW., room 4076, Potomac Center Plaza (PCP), Washington, DC 20202-2550. Telephone: (202) 245-7434.

If you use a TDD, call the Federal Relay Service (FRS), toll-free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 27, 2008.
Tracy R. Justesen,
Assistant Secretary for Special Education and Rehabilitative Services.

[FR Doc. E8-12263 Filed 5-30-08; 8:45 am]

BILLING CODE 4000-01-P